NUCLEAR REGULATORY COMMISSION

[Docket No. 72-20]

Notice of Issuance of Amendment to Materials License SNM-2508; Department of Energy TMI-2 Independent Spent Fuel Storage Installation

The U.S. Nuclear Regulatory Commission (NRC or the Commission) has issued Amendment 1 to Materials License No. SNM-2508 held by the U.S. Department of Energy (DOE) for the receipt, possession, storage and transfer of spent fuel in an independent spent fuel storage installation (ISFSI) located at the Idaho National Engineering and Environmental Laboratory (INEEL), within the Idaho Nuclear Technology and Engineering Center (INTEC) site in Scoville, Idaho. The amendment is effective as of the date of issuance.

By application dated March 26, 2001, DOE requested an amendment to its ISFSI license to correctly reflect the number of fuel and filter canisters that could be stored at the ISFSI. The correct number that can be stored is 267 (rather than 265) fuel, and 62 (rather than 67) filter, canisters.

This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The Commission has determined that, pursuant to 10 CFR 51.22(c)(11), an environmental assessment need not be prepared in connection with issuance of the amendment.

Documents related to this action are available for public inspection at the Commission's Public Document Room located at One White Flint North, 11555 Rockville Pike, Rockville, Maryland, 20852-2738, and accessible electronically through the ADAMS Public Electronic Reading Room link at the NRC Web site (http://www.nrc.gov).

Dated at Rockville, Maryland, this 4th day of April 2001.
For the Nuclear Regulatory Commission.
E. William Brach,
Director, Spent Fuel Project Office, Office of Nuclear Material Safety and Safeguards.

[FR Doc. 01-9051 Filed 4-11-01; 8:45 am]

BILLING CODE 7590-01-P